DEPARTMENT OF ENERGY

Federal Energy Regulatory Commission

[Project No. 10418-000]

City of Harrisburg, Pennsylvania; Notice of Effective Date of License Application

June 4, 2002.

The City of Harrisburg, Pennsylvania, filed a license application for the proposed Dock Street Dam and Lake Project, to be located on the Susquehanna River in Harrisburg. On May 16, 2002, the City filed a letter asking the Commission to accept its voluntary surrender of the license application for the proposed project.

No motion in opposition to the notice of the withdrawal was filed, and the Commission took no action to disallow the withdrawal. Accordingly, pursuant to Rule 216 of the Commission's Rules of Practice and Procedure,¹ the withdrawal became effective on June 4, 2002.

¹ 18 CFR 385.216(b) (2001).

Magalie R. Salas,
Secretary.

[FR Doc. 02-14471 Filed 6-7-02; 8:45 am]

BILLING CODE 6717-01-P